ENVIRONMENTAL PROTECTION AGENCY

[EPA-HQ-OLEM-2021-0312; FRL-10024-29-OLEM]

Accidental Release Prevention Requirements: Risk Management Programs Under the Clean Air Act

AGENCY: Environmental Protection Agency (EPA).

ACTION: Notice of virtual public listening sessions; request for public comment.

SUMMARY: The Environmental Protection Agency (EPA or Agency) will host virtual public listening sessions on June 16, 2021 and July 8, 2021. The goals of the sessions are to solicit comments and suggestions from stakeholders pertaining to the review of EPA Risk Management Program (RMP) regulation revisions completed since 2017 and to address new priorities, as directed under Executive Order 13990: Protecting Public Health and the Environment and Restoring Science To Tackle the Climate Crisis (E.O. 13990). The Occupational Health and Safety Administration (OSHA) will participate in the listening sessions to foster continued coordination with the EPA and receive comments on the Process Safety Management (PSM) Standard. For more information, go to the SUPPLEMENTARY INFORMATION section of this document.

DATES: Public listening sessions will be held on June 16, 2021 and July 8, 2021. Should additional dates and times be required, EPA will provide updates on our website: https://www.epa.gov/rmp/forms/virtual-public-listening-sessions-risk-management-program-rule. If you are unable to attend any of the listening sessions, you will be able to submit comments at http://www.regulations.gov: Enter Docket ID No. EPA-HQ-OLEM-2021-0312 until July 15, 2021.

ADDRESSES: Members of the public, including those that attend and provide verbal statements, are encouraged to send written comments, identified by Docket ID No. EPA-HQ-OLEM-2021-0312, by the following method:

• Federal eRulemaking Portal: https://www.regulations.gov/. Follow the online instructions for submitting comments.

Instructions: All submissions received must include the Docket ID No. EPA-HQ-OLEM-2021-0312 for this engagement. Comments received may be posted without change to https://www.regulations.gov/, including any personal information provided. For detailed instructions on sending comments and additional information on the rulemaking process, see the “Public Participation” heading of the SUPPLEMENTARY INFORMATION section of this document.

The June 16, 2021 listening session will convene at 12:00 p.m., eastern daylight time, and will conclude at 4:00 p.m., eastern daylight time. The July 8, 2021 listening session will convene at 4:00 p.m., eastern daylight time, and will conclude at 8:00 p.m., eastern daylight time.

FOR FURTHER INFORMATION CONTACT: Deanne Grant, Regulations Implementation Division, Office of Emergency Management, Office of Land and Emergency Management (5104A), Environmental Protection Agency, 1200 Pennsylvania Avenue NW, telephone number: 202-564-1096; email address: grant.deanne@epa.gov.

SUPPLEMENTARY INFORMATION:

I. Public Participation

A. Written Comments

Submit your comments, identified by Docket ID No. EPA-HQ-OLEM-2021-0312, at https://www.regulations.gov. Once submitted, comments cannot be edited or removed from the docket. The EPA may publish any comment received to its public docket. Do not submit electronically any information you consider to be Confidential Business Information (CBI) or other information whose disclosure is restricted by statute. Multimedia submissions (audio, video, etc.) must be accompanied by a written comment. The written comment is considered the official comment and should include discussion of all points you wish to make. The EPA will generally not consider comments or comment contents located outside of the primary submission (i.e., on the web, cloud, or other file sharing system). For additional submission methods, the full EPA public comment policy, information about CBI or multimedia submissions, and general guidance on making effective comments, please visit https://www.epa.gov/dockets/commenting-epa-dockets.

B. Participation in the Listening Sessions

The public is invited to speak during the June 16, 2021 or the July 8, 2021 listening session. EPA will begin pre-registering speakers for the listening sessions upon publication of this document in the Federal Register. To register to speak at the listening sessions, please use the online registration form available at https://www.epa.gov/rmp/forms/virtual-public-listening-sessions-risk-management-program-rule. The last day to pre-register to speak at the June 16, 2021 listening session will be June 14, 2021. The last day to pre-register to speak at the July 8, 2021 listening session will be July 6, 2021. On the last working day before each listening session, the EPA will post a general agenda for the listening session that will list pre-registered speakers in approximate order at https://www.epa.gov/rmp/forms/virtual-public-listening-sessions-risk-management-program-rule.

EPA will make every effort to follow the schedule as closely as possible on the day of each listening session; however, please plan for the listening session to run either ahead of schedule or behind schedule. The EPA will make every effort to accommodate all speakers who register and request a speaking role, although preferences on speaking times may not be able to be fulfilled. Each commenter will have 3 minutes to provide verbal testimony. EPA may allow persons not pre-registered as speakers to present verbal testimony the day of the listening session; EPA will consider such requests during the session as time permits.

The EPA may ask clarifying questions during the verbal presentations but will not respond to the presentations at that time. Written comments and supporting information submitted through the docket during the comment period, now until July 15, 2021, will be considered with the same weight as verbal comments and supporting information presented at the listening sessions.

Commenters should notify the listed contact on the listening sessions registration page if they will need specific equipment or if there are other special needs related to providing verbal comments at the listening sessions. Commenters should also notify the listed contact if they require the service of a translator or special accommodations such as audio description. For these special needs or accommodations, please pre-register for the listening sessions and describe your needs at least one week before the listening session. We may not be able to arrange accommodations without advanced notice.

EPA intends to make each session available for viewing to those who are not participating but are interested in listening. EPA will be posting meeting materials and additional event details on https://www.epa.gov/rmp/forms/virtual-public-listening-sessions-risk-management-program-rule, as they become available. Additionally, transcripts of the listening sessions and written statements will be included in the docket for the rulemaking.

Please note that any updates made to any aspect of the listening sessions will be posted online. While the EPA expects the listening sessions to go forward as set forth above, please monitor our website to determine if there are any updates. The EPA does not intend to publish a document in the Federal Register announcing updates.

II. General Information

A. Background

On January 13, 2017, EPA published amendments to 40 CFR part 68, the Chemical Accident Prevention Provisions, also known as the “Risk Management Program” or “RMP,” in a final rule (82 FR 4594; 2017 Amendments). The 2017 Amendments rule was a result of Executive Order (E.O.) 13650, Improving Chemical Facility Safety and Security, which directed EPA (and several other federal agencies) to, among other things, modernize policies, regulations, and standards to enhance safety and security in chemical facilities. The 2017 Amendments rule contained various new provisions applicable to RMP-regulated facilities addressing prevention program elements, emergency coordination with local responders, and information availability to the public. EPA received three petitions for reconsideration of the 2017 Amendments rule under CAA section 307(d)(7)(B). On December 19, 2019, EPA promulgated a final RMP rule (84 FR 69834; 2019 Revisions) that acted on the reconsideration petitions. The 2019 Revisions rule repealed several major provisions of the 2017 Amendments and retained other provisions with modifications.

On January 20, 2021, President Biden issued E.O. 13990, which directed federal agencies to review existing regulations and take action to address priorities established by the Biden administration, which include bolstering resilience to the impacts of climate change and prioritizing environmental justice. As a result, EPA is developing a regulatory proposal to revise the RMP regulations at 40 CFR part 68, which implement the requirements of section 112(r)(7) of the Clean Air Act.

EPA has, and will continue to coordinate revisions to the RMP rule with OSHA. EPA's RMP rule is intended to minimize public impacts of accidental releases through prevention and response while OSHA's PSM standard is intended to protect workers from the hazards of highly hazardous chemicals. In response to E.O. 13650, OSHA previously published a Request for Information (RFI) in December 2013 and held a Small Business Advocacy Review (SBAR) panel in June 2016 for the PSM standard. The list of topics OSHA considered is available at https://www.osha.gov/dsg/psm/index.html. OSHA will participate in the listening sessions to foster continued coordination with EPA as both agencies consider revisions to their respective rules.

B. Scope of Listening Sessions

The EPA is interested in obtaining perspectives from the public on key E.O. 13990 issues impacting the RMP regulations. In particular, the Agency seeks comments on the following: The adequacy of revisions to the RMP regulations completed since 2017; incorporating consideration of climate change risks and impacts into the regulations; and expanding the application of environmental justice in the RMP. Input from these public listening sessions will be used to inform the EPA's efforts to improve the RMP regulations and better protect the nation from chemical accidents. OSHA is also interested in obtaining perspectives on issues relevant to the PSM standard.

This notice is not a proposed rulemaking nor is it a reconsideration under CAA section 307(d)(7)(B) of any previous rulemaking. It is an information-gathering exercise to assist EPA in its review as called for under E.O. 13990. Therefore, EPA does not intend to prepare a response to comment document like those prepared for rulemakings. Similarly, OSHA does not intend to prepare a response to the perspectives on PSM offered at these sessions. Instead, in any future rulemaking action, EPA (or OSHA) may draw on the input received in these listening sessions to inform a future proposal, and, in the course of responding to comments on any such future proposed rule, will address similar, relevant comments raised as comments on that notice of proposed rulemaking as appropriate.

C. Stakeholder Involvement

Obtaining stakeholder input is critical to the success of E.O. 13990. In particular, the Agency is interested in hearing from the following stakeholders: Industry sectors regulated under the RMP rule such as chemical manufacturers, chemical storage companies, and agricultural supply companies, state and local regulators, chemical critical infrastructure owners and operators, first responders, labor organizations representing affected workers, environmental and community groups, academic institutions, consensus standards organizations, and individuals of the general public. Stakeholders considering participating in these listening sessions or otherwise providing comments in response to this notice should submit any written material by July 15, 2021 to allow EPA to consider your points in developing any future regulatory proposal.

Donna Salyer,
Acting Director, Office of Emergency Management.

[FR Doc. 2021-11280 Filed 5-27-21; 8:45 am]

BILLING CODE 6560-50-P